DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative and management purposes:

The plat constituting the entire survey record of the corrective dependent resurvey of a portion of the subdivisional lines, and the subdivision of section 3, in T. 7 N., R. 39 E., Boise Meridian, Idaho, was accepted October 1, 2004.

The plat representing the dependent resurvey of a portion of the subdivisional lines, and the subdivision of sections 2 and 3, in T. 13 N., R. 28 E., Boise Meridian, Idaho, was accepted October 13, 2004.

The plat representing the dependent resurvey of a portion of the south boundary, and a portion of the subdivisional lines, and the subdivision of sections 35, in T. 14 N., R. 28 E., Boise Meridian, Idaho, was accepted October 13, 2004.

The plat representing the dependent resurvey of a portion of the subdivisional lines, the boundaries of certain mineral surveys, and the survey of lot 7, section 11, in T. 6 S., R. 4 W., Boise Meridian, Idaho, was accepted October 21, 2004.

The plat, in two sheets, constitutes the entire survey record of the dependent resurvey of a portion of the south boundary and a portion of the subdivisional lines and a metes-and-bounds survey of a portion of the Craters of the Moon National Monument in sections 23 and 33, in T. 3 N., R. 25 E., Boise Meridian, Idaho, was accepted October 21, 2004.

The plat representing the dependent resurvey of a portion of the subdivisional lines, and the subdivision of sections 13, 14, and 23, in T. 16 S., R. 21 E., Boise Meridian, Idaho, was accepted November 4, 2004.

The plat, in 3 sheets, constitutes the entire survey record of the dependent resurvey of portions of the north and south boundaries, and a portion of the subdivisional lines, and a metes-and-bounds survey of a portion of the Craters of the Moon National Monument in sections 2, 11, 14, 22, 23, 25, 26, 27, and 36, in T. 2 N., R. 26 E., Boise Meridian, Idaho, was accepted November 5, 2004.

The plat representing the dependent resurvey of a portion of the north boundary and subdivisional lines, and the subdivision of section 2, in T. 12 N., R. 7 W., Boise Meridian, Idaho, was accepted November 29, 2004.

The plat, in 2 sheets, constitutes the entire survey record of the dependent resurvey of portions of the south boundary and subdivisional lines, and a metes-and-bounds survey of a portion of the Craters of the Moon National Monument in sections 19, 20, 21, 22, 26, 27, 35, and 36, in T. 3 S., R. 23 E., Boise Meridian, Idaho, was accepted December 3, 2004.

The plat, in 2 sheets, constitutes the entire survey record of the dependent resurvey of portions of the east, west, and north boundaries and a portion of the subdivisional lines, and a metes-and-bounds survey of a portion of the Craters of the Moon National Monument in sections 1, 5, 6, 7, 12, and 13, in T. 3 S., R. 22 E., Boise Meridian, Idaho, was accepted December 7, 2004.

The plat, in 2 sheets, constitutes the entire survey record of the dependent resurvey of portions of the south boundary and subdivisional lines, and a metes-and-bounds survey of a portion of the Craters of the Moon National Monument in sections 32, 33, 34, 35, and 36, in T. 2 S., R. 22 E., Boise Meridian, Idaho, was accepted December 9, 2004.

The plat, in 2 sheets, constitutes the entire survey record of the dependent resurvey of a portion of the subdivisional lines, and a metes-and-bounds survey of a portion of the Craters of the Moon National Monument in sections 11, 12, 14, 15, 16, and 17, in T. 3 S., R. 21 E., Boise Meridian, Idaho, was accepted December 10, 2004.

The plat representing the dependent resurvey of a portion of the east boundary, a portion of the subdivisional lines, and a portion of Mineral Survey Numbers 1827, 1936, 1946 and 3368, in T. 14 N., R. 23 E., Boise Meridian, Idaho, was accepted December 14, 2004.

The plat, in 2 sheets, constitutes the entire survey record of the dependent resurvey of portions of the north boundary and subdivisional lines, and a metes-and-bounds survey of a portion of the Craters of the Moon National Monument in sections 4, 9, 16, 21, and 28, in T. 1 N., R. 27 E., Boise Meridian, Idaho, was accepted December 14, 2004.

The plat, in 2 sheets, constitutes the entire survey record of the dependent resurvey of a portion of the Boise Base Line (north boundary), a portion of the south boundary, and a portion of the subdivisional lines, and the subdivision of section 13 and a metes-and-bounds survey of a portion of the Craters of the Moon National Monument in sections 2, 11, 12, 13, and 35, in T. 1 S., R. 27 E., Boise Meridian, Idaho, was accepted December 15, 2004.

The plat constitutes the entire survey record of the dependent resurvey of a portion of the subdivisional lines, and a metes-and-bounds survey of a portion of the Craters of the Moon National Monument in sections 2, 11, and 14, in T. 2 S., R. 27 E., Boise Meridian, Idaho, was accepted December 16, 2004.

SUMMARY: The Bureau of Land Management (BLM) will file the plat of survey of the lands described below in the BLM Idaho State Office, Boise, Idaho, 30 days from the date of publication in the Federal Register. This survey was executed at the request of the U.S. Forest Service to meet certain administrative and management purposes:

The plat representing the survey of portions of the Atlanta Correction Line (south bdy.), north boundary and subdivisional lines, in T. 7 N., R. 13 E., Boise Meridian, Idaho, was accepted December 16, 2004.

Dated: January 4, 2005.
Stanley G. French,
Chief Cadastral Surveyor for Idaho.

[FR Doc. 05-408 Filed 1-7-05; 8:45 am]

BILLING CODE 4310-GG-P